DEPARTMENT OF LABOR

Employment and Training Administration

Agency Information Collection Activities; Comment Request; ETA Quick Turnaround Surveys

ACTION: Notice.

SUMMARY: The Department of Labor (DOL), as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This information collection is subject to the Paperwork Reduction Act of 1995 (PRA), (44 U.S.C. 3506(c)(2)(A)). A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

DATES: Consideration will be given to all written comments received by November 14, 2016.

ADDRESSES: A copy of this ICR with applicable supporting documentation, including a description of the likely respondents, proposed frequency of response, and estimated total burden may be obtained free by contacting Richard Muller by telephone at (202) 693-3680, TTY (202) 693-7755, (these are not toll-free numbers) or by email at muller.richard@dol.gov.

Submit written comments about, or requests for a copy of, this ICR by mail or courier to the U.S. Department of Labor, Employment and Training Administration, Office of Policy Development and Research, Attention: Richard Muller, 200 Constitution Avenue NW., Room N-5641, Washington, DC 20210; by email: muller.richard@dol.gov; or by Fax (202) 693-2766.

FOR FURTHER INFORMATION CONTACT: Contact Richard Muller by telephone at (202) 693-3680 (this is not a toll-free number) or by email at muller.richard@dol.gov.

Authority: 44 U.S.C. 3506(c)(2)(A).

SUPPLEMENTARY INFORMATION: ETA is soliciting comments regarding a revision to the current Office of Management and Budget (OMB) clearance for a series of quick turnaround surveys in which data will be collected from State workforce agencies, local workforce investment areas, and other entities involved in employment and training and related programs. The surveys will focus on a variety of issues concerning the very broad spectrum of programs administered by ETA including but not limited to the governance, administration, funding, service design, and delivery structure of workforce programs authorized by the Workforce Innovation Opportunities Act of 2014 (WIOA) and other statutes.

ETA has a continuing need for information on the operation of all of its programs and is seeking another extension of the clearance for conducting a series of 8 to 20 separate surveys over the next 3 years. Each survey will be short (typically 10-30 questions) and, depending on the nature of the survey, may be administered to state workforce agencies, local workforce boards, American Job Centers, employment service offices, or other entities involved in employment and training or related activities. Each survey will be designed on an ad hoc basis and will focus on topics of pressing policy interest. Examples of broad topic areas include:

• Local management information system developments

• New processes and procedures

• Services to different target groups

• Integration and coordination with other programs

• Local workforce investment board membership and training

ETA needs quick turnaround surveys for a number of reasons. The most pressing reason concerns the need to understand key operational issues in light of changes in focus deriving from the Administration's policy priorities. ETA needs timely information that identifies the scope and magnitude of various practices or problems, and to fulfill its obligations to develop high quality policy, research, administrative guidance, regulations, and technical assistance.

ETA will request data in the quick turnaround surveys that are not otherwise available. Other research and evaluation efforts, including case studies or long-range evaluations, either cover only a limited number of sites or take many years for data to be gathered and analyzed. Administrative information and data are too limited. The Five-Year Workforce Investment Plans, developed by States and local areas, are too general in nature to meet ETA's specific informational needs. Quarterly or annual data reported by States and local areas do not provide information on key operational practices and issues. Thus, ETA has no alternative mechanism for collecting precise information that both identifies the scope and magnitude of emerging issues and provides the information on a quick turnaround basis.

ETA will make every effort to coordinate the quick turnaround surveys with other research it is conducting, in order to ease the burden on local and State respondents, to avoid duplication, and to fully explore how interim data and information from each study can be used to inform other studies. Information from the quick turnaround surveys will complement but not duplicate other ETA reporting requirements or evaluation studies. Section 169 of WIOA authorizes this information collection for both evaluation activities (Section 169 (a)) and research activities (Section 169 (b)).

CURRENT ACTION: The Department of Labor (DOL), Employment and Training Administration (ETA) is soliciting comments concerning a proposed revision for the authority to conduct the information collection request (ICR) titled, “Quick Turnaround Surveys.” This comment request is part of continuing Departmental efforts to reduce paperwork and respondent burden in accordance with the PRA.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• enhance the quality, utility and clarity of the information to be collected;

• minimize the burden of the collection of information on those who are to respond, including through the use of appropriate automated, electronic, mechanical, or other technological collection techniques or other forms of information technology, e.g., permitting electronic submissions of responses.

Interested parties are encouraged to provide comments to the contact shown in the ADDRESSES section. Comments must be written to receive consideration, and they will be summarized and included in the request for OMB approval of the final ICR. In order to help ensure appropriate consideration, comments should mention 1205-0436.

Submitted comments will also be a matter of public record for this ICR and posted on the Internet, without redaction. The DOL encourages commenters not to include personally identifiable information, confidential business data, or other sensitive statements/information in any comments.

Agency: DOL-DOL-ETA.

Type of Review: REVISION.

Title of Collection: Quick Turnaround Surveys.

Form: N/A.

OMB Control Number: 1205-0436.

Affected Public: State, Local, and Tribal Governments; Private Sector—businesses or other for-profits and not-for profit institutions.

Estimated Number of Respondents: 620.

Frequency: Various.

Total Estimated Annual Responses: 25,000.

Estimated Average Time per Response: 2 minutes.

Estimated Total Annual Burden Hours: 8,333 hours.

Total Estimated Annual Other Cost Burden: $0.

Portia Wu,
Assistant Secretary, Employment and Training Administration.

[FR Doc. 2016-21916 Filed 9-12-16; 8:45 am]

BILLING CODE 4510-FN-P